DEPARTMENT OF ENERGY

Federal Energy Regulatory Commission

[Docket No. AD10-3-000; Docket Nos. CP07-441-000; Docket No. CP09-433-000; Docket No. CP09-17-000; Docket No. AC08-161-000; Docket No. CP08-6-005; Docket No. CP09-56-000; Docket No. CP09-36-002; Docket No. CP09-40-001; Docket No. CP09-54-001; Docket No. CP09-68-000]

Accrual of Allowance for Funds Used During Construction: Pacific Connector Gas Pipeline, LP; Fayetteville Express Pipeline LLC; Florida Gas Transmission Company, LLC; Midcontinent Express Pipeline LLC; Southern Natural Gas Company; Southeast Supply Header, LLC/Southern Natural Gas Company; Ruby Pipeline, LLC; Texas Eastern Transmission, LP; Supplemental Notice on Technical Conference on Commission Policy on Commencement of Accrual of Allowance for Funds Used During Construction

December 9, 2009.

The December 2, 2009 notice of a technical conference to address the accrual of allowance for funds used during construction (AFUDC) specified several recent and pending proceedings in which the issue of the accrual of AFDUC is raised. This issue is raised in two additional pending proceedings: Fayetteville Express Pipeline LLC in Docket No. CP09-433-000 and Midcontinent Express Pipeline LLC in Docket Nos. CP08-6-005 and Docket No. CP09-56-000. Accordingly, these two cases will be included with those previously specified as a subject of the technical conference to be held on Tuesday, December 15, 2009, from 9 a.m. until 1 p.m., in the Commission Meeting Room, at the Commission's offices at 888 First Street, NE., Washington, DC.

Kimberly D. Bose,
Secretary.

[FR Doc. E9-29915 Filed 12-15-09; 8:45 am]

BILLING CODE 6717-01-P